DEPARTMENT OF AGRICULTURE

Rural Business-Cooperative Service

Rural Housing Service

Rural Utilities Service

[Docket No. RBS-21-BUSINESS-0029]

Notice of Request for Extension of a Currently Approved Information Collection

AGENCY: Rural Business-Cooperative Service (RBCS), Rural Housing Service (RHS), Rural Utilities Service (RUS), USDA.

ACTION: Notice and request for comments.

SUMMARY: In accordance with the Paperwork Reduction Act of 1995, this notice announces RBCS, RHS, and RUS', agencies of the USDA Rural Development (RD) mission area, intention to request an extension to a currently approved information collection for the Strategic Economic and Community Development Program.

DATES: Comments on this notice must be received by November 15, 2021 to be assured of consideration.

FOR FURTHER INFORMATION CONTACT: Lynn Gilbert, Regulations Management Division, Innovation Center, U.S. Department of Agriculture; lynn.gilbert@usda.gov, (202) 690-2682.

SUPPLEMENTARY INFORMATION: Title: Strategic Economic and Community Development.

OMB Number: 0570-0068.

Expiration Date of Approval: 02/28/22.

Type of Request: Extension and revision of a currently approved information collection.

Abstract: As authorized under the Agricultural Act of 2018 (2018 Farm Bill), the Strategic Economic and Community Development program will make awards using reserved funding through RD's programs to fund projects that support the implementation of multijurisdictional and multisectoral strategic community investment plans. The programs for which reserved funds may be established and priority points awarded (which are referred to as the “covered programs”) are:

• Community Facility Grants

• Community Facility Guaranteed Loans

• Community Facility Direct Loans

• Water and Waste Disposal Loans and Grants

• Water and Waste Disposal Guaranteed Loans

• Business and Industry Guaranteed Loans

• Rural Business Development Grants

• Community Connect Grant

• Rural Community Development Initiative Grant

• Tribal College Initiative Grants

• Intermediary Relending Program

• Mutual Self-Help Housing Technical Assistance Grants

• Rural Housing Site Loans

• Housing Preservation Grants

• Farm Labor Housing Direct Loans and Grants

• Multi-Family Housing Loan Guarantees

• Distance Learning and Telemedicine Loans and Grants

• Rural Energy for America Program

• Rural Economic Development Loans and Grants

• Rural Energy Savings Program

• Value-Added Producer Grants

• Household Water Well System Grant Program

• Solid Waste Management Grant

To be eligible, projects must first be eligible for funding under the covered programs. In addition, projects must be carried out in rural areas and support partial or full implementation of a multi-jurisdictional and multi-sectoral strategic community investment plan.

Estimate of Burden: Public reporting burden for this collection of information is estimated to average 4.87 hours per response.

Respondents: Rural businesses; units of State, Local and Tribal government; instrumentalities of a Local, State or Tribal government; special districts; councils of government; non-profit organizations; associations; academic institutions; public bodies and commercial lenders.

Estimated Number of Respondents: 275.

Estimated Number of Responses per Respondent: 1.70.

Estimated Total Annual Burden on Respondents: 2,290.

Comments are invited on: (1) Whether the proposed collection of information is necessary for the proper performance of the functions of RD, including whether the information will have practical utility; (2) the accuracy of the RD's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent by the Federal eRulemaking Portal: Go to https://www.regulations.gov and, in the “Search” box, type in the Docket No. 0570-0068. A link to the Notice will appear. You may submit a comment here by selecting the “Comment” button or you can access the “Docket” tab, select the “Notice,” and go to the “Browse & Comment on Documents” Tab. Here you may view comments that have been submitted as well as submit a comment. To submit a comment, select the “Comment” button, complete the required information, and select the “Submit Comment” button at the bottom. Information on using Regulations.gov, including instructions for accessing documents, submitting comments, and viewing the docket after the close of the comment period, is available through the site's “FAQ” link at the bottom. Comments on this information collection must be received by November 15, 2021.

All comments received will be available for public inspection during regular business hours at the same address.

All responses to this notice will be summarized and included in the request for OMB approval. All comments will become a matter of public record.

Justin Maxon,
Deputy Under Secretary, Rural Development.

[FR Doc. 2021-19919 Filed 9-14-21; 8:45 am]

BILLING CODE P